DEPARTMENT OF ENERGY

Federal Energy Regulatory Commission

[Project No. 14956-000]

Midwest Energy Recycling, LLC; Notice of Preliminary Permit Application Accepted for Filing and Soliciting Comments, Motions To Intervene, and Competing Applications

On December 14, 2018, Midwest Energy Recycling, LLC filed an application for a preliminary permit, pursuant to section 4(f) of the Federal Power Act, proposing to study the feasibility of the Granite Falls County Pumped Storage Project to be located near the Minnesota River and the City of Granite Falls, in Yellow Medicine County, Minnesota. The sole purpose of a preliminary permit, if issued, is to grant the permit holder priority to file a license application during the permit term. A preliminary permit does not authorize the permit holder to perform any land-disturbing activities or otherwise enter upon lands or waters owned by others without the owners' express permission.

The proposed project would consist of the following: (1) A new circular 120-acre concrete lined rockfill embankment (upper reservoir) having a total storage capacity of 3,960 acre-feet with a maximum pond elevation level of 965 feet mean sea level (msl); (2) a new 2,900-foot by 1,425-foot rectangular lower reservoir with a total storage capacity of 3,960 acre-feet with a maximum pond elevation of 1,530 feet msl; (3) a new 100-foot-diameter, reinforced concrete (morning glory type) intake connected to a vertical 2,800-foot-long by 18-foot-diameter steel lined penstock; (4) a new 200-foot-long by 70-foot-wide by 130-foot-high reinforced concrete powerhouse containing two new 333-megawatt (MW) reversible pump-turbine units with a total plant rating of 666 MW; (5) a new 50-foot-wide, 240-foot-long, 40-foot high transformer gallery; (6); a new 200 to 1,000-foot-long, 230-kilovolt transmission line extending from the transformer gallery to a new 200-foot by 200-foot substation; and (7) appurtenant facilities. The estimated annual generation of the Chippewa County Pumped Storage Project would be 1,450 gigawatt-hours.

Applicant Contact: Mr. Douglas A. Spaulding, Nelson Energy, LLC, 8441 Wayzata Boulevard, Suite 101, Golden Valley, MN 55426; phone: (952) 544-8133.

FERC Contact: Tyrone Williams; phone: (202) 502-6331.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14956-000.

More information about this project, including a copy of the application, can be viewed or printed on the “eLibrary” link of Commission's website at http://www.ferc.gov/docs-filing/elibrary.asp. Enter the docket number (P-14956) in the docket number field to access the document. For assistance, contact FERC Online Support.

Dated: March 20, 2019.
Kimberly D. Bose,
Secretary.

[FR Doc. 2019-05798 Filed 3-26-19; 8:45 am]

BILLING CODE 6717-01-P